DEPARTMENT OF JUSTICE

Antitrust Division

Notice Pursuant to the National Cooperative Research and Production Act of 1993—TM Forum

Notice is hereby given that, on July 23, 2024, pursuant to section 6(a) of the National Cooperative Research and Production Act of 1993, 15 U.S.C. 4301 et seq. (“the Act”), TM Forum, a New Jersey Non-Profit Corporation (“the Forum”), filed written notifications simultaneously with the Attorney General and the Federal Trade Commission disclosing changes in its membership. The notifications were filed for the purpose of extending the Act's provisions limiting the recovery of antitrust plaintiffs to actual damages under specified circumstances.

Specifically, Alesia Labs, Ciudad de Mexico, MEXICO; Bluestone PIM, Tønsberg, NORWAY; caspera-lab, Draveil, FRANCE; Converge Information and Communications Technology Solutions, Inc., Angeles City, PHILIPPINES; EZECOM Co., Ltd., Khan Doun Penh, CAMBODIA; Hestia Solutions OU, Tallinn, ESTONIA; IDI Billing Solutions, Victor, NY; Indian Institute of Technology Bhilai, Durg, INDIA; Infobip, London, UNITED KINGDOM; Integrated Telecom Company, Riyadh, SAUDI ARABIA; Irem Gamzeli Aktas, Zagreb, CROATIA; Kraken Technologies Limited, London, UNITED KINGDOM; Libyan Academy For Telecom and Informatics, Misurata, LIBYA; Navimentum Information System Ltd., Wuhan, PEOPLE'S REPUBLIC OF CHINA; PricewaterhouseCoopers International Limited, London, UNITED KINGDOM; PRIME FiBER, LLC, Coppell, TX; RADCOM, Tel Aviv, ISRAEL; Rede Nacional de Ensino e Pesquisa, Botafogo, BRAZIL; Safaricom PLC, Nairobi, KENYA; Sand Technologies, Ebene, MAURITIUS; SHENZHEN MASTERCOM TECHNOLOGY CO.,LTD, Shenzhen, PEOPLE'S REPUBLIC OF CHINA; SHENZHEN NETINFO INTELLIGENT TECHNOLOGIES CO., LTD., Shenzhen, PEOPLE'S REPUBLIC OF CHINA; SHENZHEN YUNSHAN TECHNOLOGY CO., LTD., Shenzhen, PEOPLE'S REPUBLIC OF CHINA; SMART COMMUNICATIONS, INC., Makati City, PHILIPPINES; Telesat LEO Inc., Ottawa, CANADA; Universidad Austral, Pilar, ARGENTINA; University College Cork, Cork, IRELAND; VC4 B.V., Alkmaar, NETHERLANDS; and Y Corporation Limited, London, UNITED KINGDOM, have been added as parties to this venture.

Also, A-OSS Consulting GmbH, Wien, AUSTRIA; ATC IP LLC, Marlborough, MA; Balance ICT Limited, Farnborough, UNITED KINGDOM; Brillio, Edison, NJ; Bruhati Solutions Ltd, Maidenhead, UNITED KINGDOM; Business-intelligence of Oriental Nations Corporation Ltd., Beijing, PEOPLE'S REPUBLIC OF CHINA; Chorus New Zealand Limited, Wellington, NEW ZEALAND; Connectbase, Westborough, MA; Delta Partners FZ LLC, Dubai, UNITED ARAB EMIRATES; F2V CONSEIL, Lyon, FRANCE; Fujitsu, Kawasaki, JAPAN; Gn0man, Glen Ellyn, IL; IO-Transform Ltd, London, UNITED KINGDOM; Jisc Services Limited, Didcot, UNITED KINGDOM; Maxis Broadband Sdn Bhd, Kuala Lumpur, MALAYSIA; M-net Telekommunikations GmbH, Nürnberg, GERMANY; Ncell, Bagmati, NEPAL; Nuevatel PCS de Bolivia, La Paz, BOLIVIA; Paus TV (barndoor Technology Limited), Liverpool, UNITED KINGDOM; Separate Reality Ltd, Newcastle Upon Tyne, UNITED KINGDOM; Telecom Consultants—TCOVA, Kerava, FINLAND; Telecom Italia Sparkle S.p.A., Rome, ITALY; TEOCO Corporation, Fairfax, VA; Tracfone Wireless, Inc, Miami, FL; and Workato Europe SA, Barcelona, SPAIN, have withdrawn as parties to this venture.

Additionally, the following members have changed their names: Viettel Corporation to Viettel Group, Hanoi, VIETNAM; CGI Info Systems Management Consulting Inc. to CGI Information Systems and Management Consultants Inc., Toronto, CANADA; Intraway Corp to Symphonica, Capital Federal, ARGENTINA; NATEC RD LLC to MEF.DEV, Funchal, PORTUGAL; and TalkTalk Group to PlatformX Communications (PXC), Salford, UNITED KINGDOM.

No other changes have been made in either the membership or planned activity of the group research project. Membership in this group research project remains open, and the Forum intends to file additional written notifications disclosing all changes in membership.

On October 21, 1988, the Forum filed its original notification pursuant to section 6(a) of the Act. The Department of Justice published a notice in the Federal Register pursuant to section 6(b) of the Act on December 8, 1988 (53 FR 49615).

The last notification was filed with the Department on April 19, 2024. A notice was published in the Federal Register pursuant to section 6(b) of the Act on June 21, 2024 (89 FR 52088).

Suzanne Morris,
Deputy Director Civil Enforcement Operations, Antitrust Division.

[FR Doc. 2024-23613 Filed 10-10-24; 8:45 am]

BILLING CODE P